FEDERAL MINE SAFETY AND HEALTH REVIEW COMMISSION

Sunshine Act Meeting

December 5, 2003.

Time and Date: 10 a.m., Wednesday, December 17, 2003.

Place: Hearing Room, 9th Floor, 601 New Jersey Avenue, NW., Washington, DC.

Status: Open.

Matters to be Considered: The Commission will consider and act upon the following in open session:

Secretary of Labor v. Cannelton Industries, Inc., Docket Nos. WEVA 2002-111-R and WEVA 2002-112-R. (Issues include whether the judge erred by permitting a “pumpers' examination” to be substituted for a preshift examination under 30 CFR 75.360.)

Any person attending this meeting who requires special accessibility features and/or auxiliary aids, such as sign language interpreters, must inform the Commission in advance of those needs. Subject to 29 CFR 2706.150(a)(3) and § 2706.160(d).

FOR FURTHER INFORMATION CONTACT: Jean Ellen, (202) 434-9950/(202) 708-9300 for TDD Relay/1-800-877-8339 for toll free.

Jean H. Ellen,
Chief Docket Clerk.

[FR Doc. 03-30884 Filed 12-10-03; 12:19 pm]

BILLING CODE 6735-01-M